FEDERAL COMMUNICATIONS COMMISSION

[DA 20-862; FRS 17003]

Announcement of Next Meeting of the Consumer Advisory Committee

AGENCY: Federal Communications Commission.

ACTION: Notice.

SUMMARY: In accordance with the Federal Advisory Committee Act, this notice announces the next meeting date, time, and agenda of the Federal Communications Commission's (FCC or Commission) Consumer Advisory Committee (hereinafter the “Committee”). The Committee will hold this upcoming meeting remotely via live internet link on the Commission's website. The Consumer Advisory Committee is a federal advisory committee under the Federal Advisory Committee Act.

DATES: September 25, 2020, beginning at 10:30 a.m.

ADDRESSES: The Meeting will be held via conference call and available to the public at http://www.fcc.gov/live.

FOR FURTHER INFORMATION CONTACT: Scott Marshall, Designated Federal Officer, FCC Consumer Advisory Committee, Consumer and Governmental Affairs Bureau, Federal Communications Commission, 445 12th St. SW, Washington, DC 20554; phone: 202-418-2809 (voice or Relay); email: scott.marshall@fcc.gov; or Gregory V. Haledjian, Deputy Designated Federal Officer, FCC Consumer Advisory Committee, Consumer and Governmental Affairs Bureau, Federal Communications Commission, 445 12th St. SW, Washington, DC 20554; phone: 202-418-7440; email: gregory.haledjian@fcc.gov.

SUPPLEMENTARY INFORMATION: This is a summary of the Commission's Public Notice DA 20-862, released August 11, 2020, announcing the Agenda, Date, and Time of the Committee's next meeting.

Proposed Agenda: At its September 25, 2020 meeting, the Committee will receive briefings from FCC staff on recent Commission activities and will discuss upcoming developments of interest to consumers. The Committee will hold this upcoming meeting remotely via live internet link. This meeting is open to members of the general public and has been moved to a wholly electronic format due to the COVID-19 pandemic. The meeting can be viewed live, by the public, at http://www.fcc.gov/live. The public may also follow a summary of the meeting on Twitter @fcc or via the Commission's Facebook page at www.facebook.com/fcc. Members of the public may submit any questions that arise during the meeting to livequestions@fcc.gov. Open captioning will be provided for the live stream. Other reasonable accommodations for people with disabilities are available upon request. To request materials in accessible formats for people with disabilities (Braille, large print, electronic files, audio format), send an email to: FCC504@fcc.gov or call the FCC's Consumer and Governmental Affairs Bureau at 202-418-0530 (voice).

To obtain further information about the Committee, consult the Committee's web page at: www.fcc.gov/consumer-advisory-committee, or contact: Scott Marshall, Designated Federal Officer, Consumer and Governmental Affairs Bureau, Federal Communications Commission, 445 12th St. SW, Washington, DC 20554; phone: 202-418-2809 (voice or Relay); email: scott.marshall@fcc.gov; or Gregory V. Haledjian, Deputy Designated Federal Officer, Consumer and Governmental Affairs Bureau, Federal Communications Commission, 445 12th St. SW, Washington, DC 20554; phone: 202-418-7440; email: gregory.haledjian@fcc.gov. Comments to the Committee may be submitted through the Designated Federal Officer or the Deputy Designated Federal Officer at the above email addresses.

Federal Communications Commission.
Gregory Haledjian,
Legal Advisor, Consumer and Governmental Affairs Bureau.

[FR Doc. 2020-18079 Filed 8-18-20; 8:45 am]

BILLING CODE P